DEPARTMENT OF ENERGY

Federal Energy Regulatory Commission

Combined Notice of Filings

Take notice that the Commission has received the following Natural Gas Pipeline Rate and Refund Report filings:

Filings Instituting Proceedings

Docket Numbers: RP17-912-000.

Applicants: Algonquin Gas Transmission, LLC.

Description: Algonquin Gas Transmission, LLC submits tariff filing per 154.204: Negotiated Rates—Bay State to BBPC 794308 & 794309 to be effective 8/1/2017.

Filed Date: 07/24/2017.

Accession Number: 20170724-5047.

Comment Date: 5:00 p.m. Eastern Time on Monday, August 07, 2017.

Docket Numbers: RP17-914-000.

Applicants: Bluewater Gas Storage, LLC.

Description: Bluewater Gas Storage, LLC submits tariff filing per 154.204: Bluewater Ownership Update Filing July 2017 to be effective 6/30/2017.

Filed Date: 07/25/2017.

Accession Number: 20170725-5038.

Comment Date: 5:00 p.m. Eastern Time on Monday, August 07, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated July 27, 2017.
Nathaniel J. Davis, Sr.,
Deputy Secretary.

[FR Doc. 2017-16461 Filed 8-3-17; 8:45 am]

BILLING CODE 6717-01-P